DEPARTMENT OF ENERGY

Federal Energy Regulatory Commission

[Docket No. RP03-582-001]

Florida Gas Transmission Company; Notice of Compliance Filing

October 21, 2003.

Take notice that on October 16, 2003, Florida Gas Transmission Company (FGT) tendered for filing additional documentation and support, as directed by Commission Order issued September 30, 2003, for FGT's Unit Fuel Surcharge proposed to be effective October 1, 2003 in the instant proceeding.

Any person desiring to protest said filing should file a protest with the Federal Energy Regulatory Commission, 888 First Street, NE., Washington, DC 20426, in accordance with Section 385.211 of the Commission's Rules and Regulations. As directed in the September 30, 2003 order, all such comments or protests must be filed within 15 days of this filing, or on or before the date as indicated below. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. Comments, protests and interventions may be filed electronically via the Internet in lieu of paper. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-filing link.

Protest Date: October 31, 2003.

Magalie R. Salas,
Secretary.

[FR Doc. E3-00122 Filed 10-27-03; 8:45 am]

BILLING CODE 6717-01-P